ENVIRONMENTAL PROTECTION AGENCY

40 CFR Part 721

[EPA-HQ-OPPT-2010-0279; FRL-9336-8]

RIN 2070-AB27

Proposed Significant New Use Rules on Certain Chemical Substances; Reopening of Comment Period

AGENCY: Environmental Protection Agency (EPA).

ACTION: Proposed rule; reopening of comment period.

SUMMARY: EPA issued a proposed rule in the Federal Register of December 28, 2011, concerning proposed significant new use rules (SNURs) under section 5(a)(2) of the Toxic Substances Control Act (TSCA) for 17 chemical substances which were the subject of premanufacture notices (PMNs). In order to address public comments, EPA is reopening the comment period for 45 days.

DATES: Comments, identified by docket identification (ID) number EPA-HQ-OPPT-2010-0279, must be received on or before March 19, 2012.

ADDRESSES: Follow the detailed instructions as provided under ADDRESSES in the Federal Register document of December 28, 2011.

FOR FURTHER INFORMATION CONTACT: For technical information contact: Kenneth Moss, Chemical Control Division (7405M), Office of Pollution Prevention and Toxics, Environmental Protection Agency, 1200 Pennsylvania Ave. NW., Washington, DC 20460-0001; telephone number: (202) 564-9232; email address: moss.kenneth@epa.gov.

For general information contact: The TSCA-Hotline, ABVI-Goodwill, 422 South Clinton Ave., Rochester, NY 14620; telephone number: (202) 554-1404; email address: TSCA-Hotline@epa.gov.

SUPPLEMENTARY INFORMATION: This document reopens the public comment period established in the Federal Register of December 28, 2011 (76 FR 81447) (FRL-9326-2). In that document, EPA proposed SNURs under section 5(a)(2) of TSCA for 17 chemical substances which were the subject of PMNs. Fifteen of these chemical substances are subject to TSCA section 5(e) consent orders issued by EPA. EPA received comments in response to the proposed SNURs, noting that the proposed SNURs and corresponding consent orders present many complicated technical and scientific issues and meaningful public input will require a substantial amount of time and effort. The commenters requested that additional time be allotted to provide interested parties an appropriate opportunity to develop meaningful comments on the agency's proposed action. EPA is hereby reopening the comment period for 45 days to allow for any public comments for any of the chemical substances in the proposed rule.

To submit comments, or access the docket, please follow the detailed instructions as provided under ADDRESSES in the December 28, 2011 Federal Register document. If you have questions, consult the technical person listed under FOR FURTHER INFORMATION CONTACT.

List of Subjects in 40 CFR Part 721

Environmental protection, Chemicals, Hazardous substances, Reporting and recordkeeping requirements.

Dated: January 24, 2012.
Maria J. Doa,
Director, Chemical Control Division, Office of Pollution Prevention and Toxics.

[FR Doc. 2012-2200 Filed 1-31-12; 8:45 am]

BILLING CODE 6560-50-P